DEPARTMENT OF THE INTERIOR

National Park Service

Final Environmental Impact Statement for the General Management Plan; Harpers Ferry National Historical Park

AGENCY: National Park Service, Department of the Interior.

ACTION: Notice of availability of the Final Environmental Impact Statement for the General Management Plan for Harpers Ferry National Historical Park.

SUMMARY: Pursuant to the National Environmental Policy Act of 1969, 42 U.S.C. 4332 (2)(C), the National Park Service (NPS) announces the availability of a Final Environmental Impact Statement for the General Management Plan for Harpers Ferry National Historical Park in West Virginia, Virginia, and Maryland. The plan will provide guidance to park management for administration, development, and interpretation of park resources over the next 20 years. Impact topics addressed were cultural resources, natural resources, visitor use and experience, socioeconomic environment, and NPS operations.

The document describes a No Action Alternative (Alternative 1, continuation of existing management) and two Action Alternatives.

Alternative 2 takes a traditional approach in which each location within the park is managed to reflect the most significant period or era associated with it. An enlarged contact station on Cavalier Heights would be developed. Management activities would focus on the preservation of the resources as well as the presentation of the interpretive themes appropriate to each location. Outlying portions of the park would be connected by an auto tour and round-the-park trail system. The existing transportation system would also be expanded to include more of the park. African American history would be elevated in prominence on Camp Hill and NPS staff would work with partners to promote protection of and visitation to sites throughout the local area. A public/private partnership would be cultivated to rehabilitate and manage the historic Shipley School.

Alternative 3 would provide increased connections with private businesses and public/private organizations to help utilize, maintain, and interpret historic structures while bringing additional life and excitement to Lower Town. A joint NPS/state tourism entrance complex would be developed. This alternative would provide enhanced visitor services ensuring visitor needs were met not only in the park but in the surrounding counties. Historic structures would be preserved and interpreted. Some structures would be leased to non-NPS entities to ensure upkeep and lessen the financial burden on the park. A new headquarters building would be developed somewhere in the Harpers Ferry vicinity. An enlarged transportation system would be operated in partnership with Main Street Harpers Ferry. A public/private partnership would be developed to rehabilitate and manage the historic Shipley School.

Alternative 2 is the NPS selected preferred alternative.

The Draft Environmental Impact Statement for the General Management Plan was made available for public review from May 2 to July 1, 2009. Approximately 3,200 copies of the plan were mailed to agencies, organizations, and Harpers Ferry National Historical Park's mailing list. The availability of the document and information about public meetings were also announced in the local newspaper. Two public meetings were held September 2008 following initial distribution of the draft plan, and an additional public meeting held June 9, 2009, during the review period. Thirty-four comments were received during the review period. Because comments received did not meet the criteria for “substantive comment,” a request was granted by the Department of the Interior Office of Environmental Policy and Compliance to undertake this abbreviated format Final Environmental Impact Statement for the General Management Plan.

DATES: The NPS will execute a Record of Decision (ROD) no sooner than 30 days following publication by the Environmental Protection Agency of the Notice of Availability of the Final Environmental Impact Statement for the General Management Plan.

ADDRESSES: Information will be available for public review online at http://parkplanning.nps.gov, or available on C-D. Hard copies may be obtained by contacting Superintendent Rebecca Harriett, Harpers Ferry National Historical Park, at 485 Fillmore Street, P.O. Box 65, Harpers Ferry, West Virginia 25425, or by telephone at (304) 535-6224.

FOR FURTHER INFORMATION CONTACT: David Hayes, Regional Planner and Transportation Liaison, National Capital Region, National Park Service, 1100 Ohio Drive, SW., Washington, DC 20242, by telephone at (202) 619-7277, or by e-mail at David_Hayes@nps.gov.

SUPPLEMENTARY INFORMATION: The NPS evaluated a No Action Alternative and two Action Alternatives for management, development, and interpretation in the Final Environmental Impact Statement for the General Management Plan. Both Action Alternatives provide for the preservation of all park cultural and natural resources. However, the selected preferred alternative, Alternative 2, provides the best variety of visitor experiences, the widest access to all areas of the national historical park, and the most appropriate use of historic resources for interpretive and other park operational purposes. Overall, it best meets NPS purposes and goals for Harpers Ferry National Historical Park while meeting National Environmental Policy Act goals. The selected preferred alternative will not result in the impairment of park resources and will allow the NPS to conserve park resources while providing for their enjoyment by visitors.

Dated: April 28, 2010.
Margaret O'Dell,
Regional Director, National Capital Region.

[FR Doc. 2010-11817 Filed 5-17-10; 8:45 am]

BILLING CODE 4312-JP-P